DEPARTMENT OF TRANSPORTATION

Federal Aviation Administration

14 CFR Part 71

[Docket No. FAA-2017-0994; Airspace Docket No. 17-ASO-21]

RIN 2120-AA66

Amendment of Class D Airspace and Class E Airspace; Greenwood, MS

AGENCY: Federal Aviation Administration (FAA), DOT.

ACTION: Final rule, correction.

SUMMARY: This action corrects a final rule published in the Federal Register on May 17, 2018, amending Class D and Class E airspace at Greenwood, MS, by removing duplicative language added in the legal description of Class E airspace extending upward from 700 feet or more above the surface for Greenwood-Leflore Airport.

DATES: Effective 0901 UTC, July 19, 2018. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The FAA published a final rule in the Federal Register (83 FR 22840, May 17, 2018) for Doc. No. FAA-2017-0994, amending Class D airspace, Class E surface airspace, Class E airspace designated as an extension to a Class D surface area, and Class E airspace extending upward from 700 feet or more above the surface at Greenwood-Leflore Airport, Greenwood, MS. Subsequent to publication, the FAA found duplicative language in the regulatory text of the Class E airspace area extending upward from 700 feet above the surface. This action corrects the error by removing that part of the extra text that reads “That airspace extending upward from 700 feet above the surface within a 6.9-mile radius of That That airspace”. The airspace description now reads “That airspace extending upward from 700 feet above the surface within a 6.9-mile radius of Greenwood-Leflore Airport and within 1.2 miles each side of the Sidon VORTAC 079° radial, extending from the 6.9-mile radius to 2 miles each side of the VORTAC.”

Class D and E airspace designations are published in paragraph 5000, 6002, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 6, 2017, and effective September 15, 2017. FAA Order 7400.11B is publicly available as listed in the ADDRESSES section of this document. FAA Order 7400.11B lists Class A, B, C, D, and E airspace areas, air traffic service routes, and reporting points.

Correction to Final Rule

Accordingly, pursuant to the authority delegated to me, in the Federal Register of May 17, 2018 (83 FR 22840) FR No. 2018-10389, the amendment of Class E Airspace for Greenwood-Leflore Airport, Greenwood, MS, is corrected as follows:

§ 71.1 [Amended]

ASO MS E5 Greenwood, MS [Amended]

On page 22842, column 1 lines 10, 11, and 12, remove the words

“That airspace extending upward from 700 feet above the surface within a 6.9-mile radius of That That airspace”.

Issued in College Park, Georgia, on May 24, 2018.
Ryan W. Almasy,
Manager, Operations Support Group, Eastern Service Center, Air Traffic Organization.

[FR Doc. 2018-11851 Filed 6-1-18; 8:45 am]

BILLING CODE 4910-13-P